DEPARTMENT OF AGRICULTURE

Office of the Secretary

7 CFR Part 1

[Docket No. USDA-2021-0009]

RIN 0503-AA74

Production or Disclosure of Official Information in Legal Proceedings

AGENCY: Office of the Secretary, USDA.

ACTION: Direct final rule; technical amendment.

SUMMARY: In a direct final rule published on February 28, 2022, and effective on April 29, 2022, the U.S. Department of Agriculture notified the public of our intention to revise our regulations regarding the production or disclosure of official information in legal proceedings (referred to as Touhy regulations). The direct final rule contained an incorrect email address, which we are correcting in this document.

DATES: Effective May 2, 2022.

FOR FURTHER INFORMATION CONTACT: Karen Carrington Fletcher, Senior Counsel, Office of the General Counsel, USDA, 1400 Independence Ave. SW, Room 103-W, Washington, DC 20250; karen.fletcher@usda.gov; (202) 720-0944.

SUPPLEMENTARY INFORMATION: On February 28, 2022, the U.S. Department of Agriculture published a direct final rule. (See 87 FR 10925) The direct final rule notified the public of our intention to revise our regulations regarding the production or disclosure of official information in legal proceedings (referred to as Touhy regulations).

In the direct final rule, we provided an email address for the submission of demands to the Department's Office of the General Counsel. The address was incorrect. This technical amendment amends the regulations to provide the correct address.

List of Subjects in 7 CFR Part 1

Administrative practice and procedure, Antitrust, Claims, Cooperatives, Courts, Equal access to justice, Fraud, Freedom of information, Government employees, Indemnity payments, Lawyers, Motion pictures, Penalties, Privacy.

Accordingly, we are amending 7 CFR part 1 as follows:

PART 1—ADMINISTRATIVE REGULATIONS

1. The authority citation for part 1 continues to read as follows:

Authority: 5 U.S.C. 301, unless otherwise noted.

§ 1.217 [Amended]

2. In § 1.217, amend paragraph (a)(1) by removing the address “OGC_Touhy_Demands@usda.gov” and adding the address “OGC-Touhy-Demands@usda.gov” in its place.

Stephen O'Neill,
Legislative and Regulatory Affairs Staff, OBPA, United States Department of Agriculture.

[FR Doc. 2022-09380 Filed 4-29-22; 8:45 am]

BILLING CODE 3410-90-P